DEPARTMENT OF ENERGY

Federal Energy Regulatory Commission

[Docket No. ES00-43-000, et al.]

PJM Interconnection, L.L.C., et al.; Electric Rate and Corporate Regulation Filings

June 12, 2000.

Take notice that the following filings have been made with the Commission:

1. PJM Interconnection, L.L.C.

[Docket No. ES00-43-000]

Take notice that on June 7, 2000, PJM Interconnection, L.L.C., tendered for filing an application pursuant to section 204 of the Federal Power Act seeking authorization to issue a secured promissory note in the amount of $75 million for a term credit facility and an unsecured promissory note in the amount of up to $15 million for a revolving line of credit.

Comment date: July 3, 2000, in accordance with Standard Paragraph E at the end of this notice.

2. Hoosier Energy Rural Electric Cooperative, Inc.

[Docket No. NJ00-4-000]

Take notice that on June 5, 2000, Hoosier Energy Rural Electric Cooperative, Inc. (Hoosier), tendered for filing in the above-referenced docket modifications to the charges it collects for Energy Imbalance Service pursuant to Schedule 4 of its reciprocity open access transmission tariff.

Comment date: June 26, 2000, in accordance with Standard Paragraph E at the end of this notice.

3. Louisville Gas and Electric Company/Kentucky Utilities Company

[Docket No. ER00-2722-000]

Take notice that on June 6, 2000, Louisville Gas and Electric Company (LG&E)/Kentucky Utilities (KU) (hereinafter Companies), tendered for filing executed unilateral Service Sales Agreement between Companies and Tenaska Energy Services Co. under the Companies' Rate Schedule MBSS.

Comment date: June 27, 2000, in accordance with Standard Paragraph E at the end of this notice.

4. Amerada Hess Corporation

[Docket No. ER00-2724-000]

Take notice that on June 6, 2000, Amerada Hess Corporation (AHC), tendered for filing with the Federal Energy Regulatory Commission a letter approving its membership in the Western Systems Power Pool (WSPP).

AHC requests that the Commission allow its membership to be effective on June 7, 2000.

Comment date: June 27, 2000, in accordance with Standard Paragraph E at the end of this notice.

5. Southwest Power Pool, Inc.

[Docket No. ER00-2725-000]

Take notice that on June 6, 2000, Southwest Power Pool, Inc. (SPP), tendered for filing executed service agreements for Firm Point-to-Point Transmission Service, Non-Firm Point-to-Point Transmission and Loss Compensation Service with MidAmerican Energy Company (the Transmission Customer).

Copies of this filing were served upon the Transmission Customer.

Comment date: June 27, 2000, in accordance with Standard Paragraph E at the end of this notice.

6. Western Resources, Inc.

[Docket No. ER00-2729-000]

Take notice that on June 6, 2000, Western Resources, Inc., tendered for filing a letter stating that it is adopting the NERC revisions to its TLR procedures approved by the Commission on May 8, 2000 in Docket No. ER00-1666-000, and that therefore Western Resources' FERC Electric Tariff, First Revised Original Volume No. 5 shall be considered so modified to reflect the revisions described in the Commission's order.

The effective date of this modification shall be May 7, 2000.

A copy of this letter has been served upon the Kansas Corporation Commission.

Comment date: June 27, 2000, in accordance with Standard Paragraph E at the end of this notice.

7. Dayton Power and Light Company

[Docket No. ER00-2730-000]

Take notice that on June 6, 2000, the Dayton Power and Light Company (Dayton), on tendered for filing an amendment to its Open Access Transmission Tariff adopting NERC's TLR procedures.

Comment date: June 27, 2000, in accordance with Standard Paragraph E at the end of this notice.

8. Virginia Electric and Power Company

[Docket No. ER00-2731-000]

Take notice that on June 6, 2000, Virginia Electric and Power Company (Virginia Power), tendered for filing an unexecuted Service Agreement for Firm Point-to-Point Transmission Service by Virginia Electric and Power Company to PJM Interconnection, LLC and an unexecuted Service Agreement for Non-Firm Point-to-Point Transmission Service by Virginia Electric and Power Company to PJM Interconnection, LLC.

The foregoing Service Agreements are tendered for filing under the Open Access Transmission Tariff to Eligible Purchasers dated July 14, 1997. Under the tendered Service Agreements, Virginia Power will provide point-to-point service to the Transmission Customer under the rates, terms and conditions of the Open Access Transmission Tariff.

Virginia Power requests an effective date of May 8, 2000, the date service was first provided to the customer. Upon receipt from the customer, Virginia Power will file the executed versions of these agreements with the Commission.

Copies of the filing were served upon PJM Interconnection, LLC, the Virginia State Corporation Commission and the North Carolina Utilities Commission.

Comment date: June 27, 2000, in accordance with Standard Paragraph E at the end of this notice.

9. Sierra Pacific Power Company

[Docket No. ER00-2732-000]

Take notice that on June 6, 2000, Sierra Pacific Power Company (Sierra), tendered for filing an executed Service Agreement (Service Agreement) with Southern Company Energy Marketing, L.P., for Short-Term Firm Transmission Service under Sierra Pacific Resources Operating Companies, FERC Electric Tariff, Original Volume No. 1, Open Access Transmission Tariff (Tariff).

Sierra filed the executed Service Agreement with the Commission in compliance with section 13.4 of the Tariff and applicable Commission regulations. Sierra also submitted Original Sheet No. 173A (Attachment E) to the Tariff, which is an updated list of all current subscribers.

Sierra requests waiver of the Commission's notice requirements to permit and effective date of June 7, 2000 for Attachment E, and to allow the Service Agreements to become effective according to their terms.

Copies of this filing were served upon the Public Utilities Commission of Nevada, the Public Utilities Commission of California and all interested parties.

Comment date: June 27, 2000, in accordance with Standard Paragraph E at the end of this notice.

10. New England Power Company

[Docket No. ER00-2733-000]

Take notice that on June 6, 2000, New England Power Company (NEP), tendered for filing a notice that it was adopting the Transmission Loading Relief procedures accepted by the Commission in North American Reliability Council, 91 FERC ¶ 61,122 (2000), and that NEP's open access transmission tariff— New England Power Company, FERC Electric Tariff, Original Volume No. 9—should be considered so modified.

Copies of said filing have been served upon all parties to this proceeding.

Comment date: June 27, 2000, in accordance with Standard Paragraph E at the end of this notice.

11. Kansas City Power & Light Company

[Docket No. ER00-2734-000]

Take notice that on June 6, 2000, Kansas City Power & Light Company (KCPL), tendered for filing notice to the commission that it would adopt the revised TLR procedures of the commissions May 8, 2000 order for transactions under its tariff. Additionally, KCPL will participate in SPP and MAPP TLR procedures.

Comment date: June 27, 2000, in accordance with Standard Paragraph E at the end of this notice.

12. Entergy Nuclear FitzPatrick, LLC

[Docket No. ER00-2738-000]

Take notice that on June 7, 2000, Entergy Nuclear FitzPatrick, LLC (ENF) tendered for filing an application for authorization to sell wholesale power at market-based rates pursuant to section 205 of the Federal Power Act. ENF also requests that the Commission accept for filing certain long term-power sales agreements for the sale of power from ENF to the New York Power Authority (NYPA) as stand-alone rate schedules to ENF's proposed market rate tariff.

Copies of this filing have been served on the New York Public Service Commission, Arkansas Public Service Commission, Mississippi Public Service Commission, Louisiana Public Service Commission, Texas Public Utility Commission, Council of the City of New Orleans and NYPA.

Comment date: June 28, 2000, in accordance with Standard Paragraph E at the end of this notice.

13. Virginia Electric and Power Company

[Docket No. ER00-2739-000]

Take notice that on June 7, 2000, Virginia Electric and Power Company (Virginia Power), tendered for filing Virginia Electric and Power Company FERC Electric Tariff, Second Revised Volume No. 5 (Revised OATT) that contains the revised Transmission Loading Relief (TLR) procedures promulgated by the North American Electric Reliability Council (NERC).

Virginia Power has requested that the revised TLR procedures become effective on March 1, 2000 and the remainder of the Revised OATT become effective June 7, 2000, the date of filing.

Comment date: June 28, 2000, in accordance with Standard Paragraph E at the end of this notice.

14. Mid-Continent Area Power Pool

[Docket No. ER00-2742-000]

Take notice that on June 7, 2000, the Mid-Continent Area Power Pool (MAPP), on behalf of its public utility members, tendered for filing service agreements under MAPP Schedule R with Basin Electric Power Cooperative; Cargill-Alliant, LLC; Central Iowa Power Cooperative; Cinergy Services, Inc.; Consolidated Water Power Company; Coral Power, L.L.C.; Corn Belt Power Cooperative; Dairyland Power Cooperative; Enron Power Marketing, Inc.; Entergy Power Marketing Corp.; Gen-Sys Energy; Great River Energy; Hastings Utilities; Heartland Consumers Power District; IDACORP Energy; Koch Energy Trading, Inc.; Lincoln Electric System; Madison Gas and Electric Company; Manitoba Hydro; MidAmerican Energy Company; Minnesota Municipal Power Agency; Minnesota Municipal Utilities Association; Minnesota Power; Minnkota Power Cooperative, Inc.; Missouri River Energy Services; Municipal Energy Agency of Nebraska; OTP Wholesale Marketing; PacifiCorp; PG&E Energy Trading-Power, L.P.; Public Service Company of Colorado; Reliant Energy Services; Rochester Public Utilities; Sonat Power Marketing, L.P.; Southern MN Municipal Power Agency; Southwestern Public Service Company; St. Joseph Light and Power; Sunflower Electric Power Corp.; Tenaska Power Services; The Energy Authority, Inc.; U.S. Energy Commodities Services; Western Area Power Administration; Western Resources; Wisconsin Public Power, Inc. System; Wisconsin Public Service Corporation; and Wood County Municipals.

Comment date: June 28, 2000, in accordance with Standard Paragraph E at the end of this notice.

15. Florida Power Corporation

[Docket No. ER00-2743-000]

Take notice that on June 7, 2000, Florida Power Corporation (Florida Power), tendered for filing a notice of adoption of the revised NERC Transmission Loading Relief (TLR) procedures for its open access transmission tariff (OATT). The Commission accepted the revised NERC TLR procedures in North American Electric Reliability Council, 91 FERC ¶ 61,122 (2000).

Florida Power requests a March 1, 2000 effective date.

Copies of the filing were served on Florida Power's OATT customers and the State Commissions of Florida, Georgia and South Carolina.

Comment date: June 28, 2000, in accordance with Standard Paragraph E at the end of this notice.

16. New England Power Pool and ISO New England Inc.

[Docket No. ER00-2744-000]

Take notice that on June 7, 2000, the New England Power Pool (NEPOOL) and ISO New England Inc., tendered for filing a joint notification as directed by the Commission in its Order in Docket No. ER00-1666-000 on May 8, 2000 at 91 FERC ¶ 61,122 that the Commission should consider the NEPOOL Open Access Transmission Tariff as modified by the revised North American Electric Reliability Council Transmission Loading Relief Procedures accepted for filing by that Order.

Copies of the filing have been provided to the NEPOOL participants and the Governors and Utility Regulatory Agencies of the six New England States.

Comment date: June 28, 2000, in accordance with Standard Paragraph E at the end of this notice.

17. American Electric Power Service Corporation

[Docket No. ER00-2745-000]

Take notice that on June 7, 2000, American Electric Power Service Corporation (AEP), tendered for filing a notice of adoption of the revised NERC Transmission Loading Relief (TLR) procedures for its open access transmission tariff (OATT). The Commission accepted the revised NERC TLR procedures in North American Electric Reliability Council, 91 FERC ¶ 61,122 (2000).

AEP requests a March 1, 2000 effective date.

Copies of the filing were served on AEP's OATT customers and the State Commissions of Ohio, Michigan, Indiana, Kentucky, Tennessee, West Virginia and Virginia.

Comment date: June 27, 2000, in accordance with Standard Paragraph E at the end of this notice.

18. Commonwealth Edison Company Commonwealth Edison Company of Indiana

[Docket No. ER00-2746-000]

Take notice that on June 7, 2000, Commonwealth Edison Company and Commonwealth Edison Company of Indiana (collective ComEd), tendered for filing notice, in accordance with the Federal Energy Regulatory Commission's May 8, 2000 “Order Accepting Filing” issued in Docket No. ER00-1666-000, 91 FERC ¶ 61,122 (2000) (May 8, 2000 Order), that ComEd's Open Access Transmission Tariff shall be considered modified by adopting the North American Electric Reliability Council's Transmission Loading Relief Procedures accepted by the Commission in the May 8, 2000 Order.

Comment date: June 28, 2000, in accordance with Standard Paragraph E at the end of this notice.

19. WPS Resources Operating Companies

[Docket No. ER00-2747-000]

Take notice that on June 7, 2000, WPS Resources Operating Companies (WPS), tendered for filing notice of adoption of the revised NERC Transmission Loading Relief (TLR) procedures for its open access transmission tariff (OATT). The Commission accepted the revised NERC TLR procedures in North American Electric Reliability Council, 91 FERC ¶ 61,122 (2000).

WPS requests a March 1, 2000 effective date.

Copies of the filing were served on WPS's OATT customers and the State Commissions of Michigan and Wisconsin.

Comment date: June 28, 2000, in accordance with Standard Paragraph E at the end of this notice.

20. Hardee Power Partners Limited

[Docket No. ER00-2748-000]

Take notice that on June 7, 2000, Hardee Power Partners Limited (HPP), tendered for filing a service agreement with Koch Energy Trading Inc. (Koch), under HPP's market-based sales tariff.

HPP requests that the service agreement be made effective on May 8, 2000.

Copies of the filing have been served on Koch and the Florida Public Service Commission.

Comment date: June 28, 2000, in accordance with Standard Paragraph E at the end of this notice.

21. Allegheny Energy Service Corporation on Behalf of Allegheny Energy Supply Company, LLC

[Docket No. ER00-2754-000]

Take notice that on June 7, 2000, Allegheny Energy Service Corporation on behalf of Allegheny Energy Supply Company, LLC (Allegheny Energy Supply), tendered for filing Supplement No. 47 to add one (1) new Customer to the Market Rate Tariff under which Allegheny Energy Supply offers generation services.

Allegheny Energy Supply requests a waiver of notice requirements to make service available as of May 9, 2000 to Louisville Gas and Electric Company/Kentucky Utilities Company.

Copies of the filing have been provided to the Public Utilities Commission of Ohio, the Pennsylvania Public Utility Commission, the Maryland Public Service Commission, the Virginia State Corporation Commission, the West Virginia Public Service Commission, and all parties of record.

Comment date: June 28, 2000, in accordance with Standard Paragraph E at the end of this notice.

22. Central Vermont Public Service Corporation

[Docket No. ER00-2755-000]

Take notice that on June 6, 2000, Central Vermont Public Service Corporation (Central Vermont), tendered for filing a notice of adoption of the revised NERC Transmission Loading Relief (TLR) procedures for its open access transmission tariff (OATT). The Commission accepted the revised NERC TLR procedures in North American Electric Reliability Council, 91 FERC ¶ 61,122 (2000).

Central Vermont requests a March 1, 2000 effective date.

Copies of the filing were served on Central Vermont's OATT customers and the State Commissions of Vermont, New Hampshire, Massachusetts and Connecticut.

Comment date: June 27, 2000, in accordance with Standard Paragraph E at the end of this notice.

23. Southern Indiana Gas and Electric Company

[Docket No. ER00-2756-000]

Take notice that on June 7, 2000, Southern Indiana Gas and Electric Company (SIGECO), tendered for filing the following agreement concerning the provision of electric service to Allegheny Energy Supply Company, LLC, as a umbrella service agreement under its market-based Wholesale Power Sales Tariff:

1. Wholesale Energy Service Agreement dated May 31, 2000, by and between Southern Indiana Gas and Electric Company and Allegheny Energy Supply Company, LLC.

Comment date: June 28, 2000, in accordance with Standard Paragraph E at the end of this notice.

24. Entergy Services, Inc.

[Docket No. ER00-2757-000]

Take notice that on June 7, 2000, Entergy Service, Inc., tendered for filing notice that it will adopt as part of its open access transmission tariff, the revisions to the Transmission Loading Relief procedures filed by the North American Electric Reliability Council and accepted by FERC in North American Electric Reliability Council, 91 FERC ¶ 61,122 (2000).

Comment date: June 28, 2000, in accordance with Standard Paragraph E at the end of this notice.

25. The Detroit Edison Company and Consumers Energy Company

[Docket No. ER00-2758-000]

Take notice that on June 7, 2000, The Detroit Edison Company (Detroit Edison) and Consumers Energy Company (Consumers), tendered for filing notice that Detroit Edison will adopt as part of its open access transmission tariff, and that Detroit Edison and Consumers will adopt as part of their joint open access transmission tariff, the revisions to the Transmission Loading Relief procedures filed by the North American Electric Reliability Council and accepted by FERC in North American Electric Reliability Council, 91 FERC ¶ 61,122 (2000).

Comment date: June 28, 2000, in accordance with Standard Paragraph E at the end of this notice.

26. Florida Power & Light Co.

[Docket No. ER00-2759-000]

Take notice that on June 6, 2000, Florida Power & Light Company tendered for filing pursuant to North American Electric Reliability Council, 91 FERC ¶ 61,122 (2000) (NERC), notice of a generic amendment to its Open Access Transmission Tariff (OATT) reflecting the North American Electric Reliability Council (NERC) revised Transmission Loading Relief (TLR) procedures accepted by the Commission in NERC.

Comment date: June 27, 2000, in accordance with Standard Paragraph E at the end of this notice.

27. Duke Energy Corporation

[Docket No. ER00-2760-000]

Take notice that on June 7, 2000, Duke Energy Corporation (Duke), tendered for filing a compliance filing in the above-referenced docket involving the North American Electric Reliability Council's market redispatch program.

Duke states that a copy has been served on the Service List in this proceeding.

Comment date: June 28, 2000, in accordance with Standard Paragraph E at the end of this notice.

28. Alliant Energy Corporate Services, Inc.

[Docket No. ER00-2761-000]

Take notice that on June 7, 2000, Alliant Energy Corporate Services, Inc. tendered for filing on behalf of IES Utilities Inc. (IES), Interstate Power Company (IPC) and Wisconsin Power and Light Company (WPL), in response to the Commission's order dated May 8, 2000, in North American Electric Reliability Council, Docket No. ER00-1666-000 (NERC Order).

Alliant Energy Corporate Services, Inc., hereby provides notice that in accordance with the NERC Order it adopts NERC's revised Transmission Loading Relief (TLR) Procedures for Alliant Energy Corporate Services, Inc.

Accordingly, Alliant Energy Corporate Services, Inc., requests waiver of all applicable notice requirements to permit the effective date of March 1, 2000.

A copy of this filing has been served upon the Illinois Commerce Commission, the Minnesota Public Utilities Commission, the Iowa Department of Commerce, and the Public Service Commission of Wisconsin.

Comment date: June 28, 2000, in accordance with Standard Paragraph E at the end of this notice.

29. New York Independent System Operator, Inc.

[Docket No. ER00-2762-000]

Take notice that on June 7, 2000, the New York Independent System Operator, Inc. (NYISO), tendered for filing Revisions to its Code of Conduct.

The NYISO requests an effective date of August 7, 2000 and waiver of the Commission's notice requirements.

A copy of this filing was served upon all persons who have signed the NYISO Open Access Transmission Tariff and on the electric utility regulatory agencies in New York, New Jersey and Pennsylvania.

Comment date: June 28, 2000, in accordance with Standard Paragraph E at the end of this notice.

30. Wisconsin Energy Corporation Operating Companies

[Docket No. ER00-2763-000]

Take notice that on June 7, 2000, Wisconsin Energy Corporation Operating Companies (Wisconsin Energy), tendered for filing Wisconsin Energy Corporation Operating Companies FERC Electric Tariff, First Revised Volume No. 1 (Revised OATT) that replaces the existing Transmission Loading Relief (TLR) in the tariff with the revised TLR procedures promulgated by the North American Electric Reliability Council.

Wisconsin Energy has requested that the revised TLR procedures become effective on March 1, 2000 and the remainder of the Revised OATT become effective June 7, 2000, the date of filing.

Comment date: June 28, 2000, in accordance with Standard Paragraph E at the end of this notice.

31. SEI Wisconsin, L.L.C.

[Docket No. ER00-2764-000]

Take notice that on June 7, 2000, SEI Wisconsin, L.L.C. (SEI Wisconsin), tendered for filing with the Federal Energy Regulatory Commission a long-term service agreement for sales under SEI Wisconsin's Market Rate Tariff, which was accepted for filing in Docket No. ER99-669-000. The service agreement is the “Power Purchase Agreement dated August 28, 1998, between SEI Wisconsin, L.L.C. and Wisconsin Electric Power Company.”

Comment date: June 28, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-15363 Filed 6-16-00; 8:45 am]

BILLING CODE 6717-01-P